DEPARTMENT OF THE INTERIOR

Geological Survey

Agency Information Collection Activity; Evaluation of USGS Southwest Biological Science Center Biennial Conferences

AGENCY: U.S. Geological Survey (USGS).

ACTION: Notice; request for comments.

SUMMARY: We (U.S. Geological Survey) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before June 8, 2009.

ADDRESSES: Please submit your comments on the IC to Phadrea Ponds, USGS Information Collection Clearance Officer, 2150-C Center Avenue, Fort Collins, CO 80525 (mail); (970) 226-9230 (fax); or phadrea_ponds@usgs.gov (e-mail). Please reference Information Collection 1028-NEW, Conference Evaluation in the subject line.

FOR FURTHER INFORMATION PLEASE CONTACT: To request additional information about this IC, contact Dr. Marty Lee by e-mail at martha.lee@nau.edu or by telephone at (928) 523-6644.

SUPPLEMENTARY INFORMATION:

I. Abstract

Natural area conferences aim to promote discussion and productive communication between researchers and land resource managers. This research is designed to measure the effectiveness of these conferences using importance/performance analysis to identify a set of standards that define an effective conference. An on-line survey will be sent to approximately 550 attendees of two USGS-sponsored conferences. Results will provide quantitative knowledge that will ultimately enhance the experience for future conference attendees and inform the supporting institutions and/or agencies of their success. These data will also serve as a measurement tool and point of reference from which to evaluate future conferences.

II. Data

OMB Control Number: None. This is a new collection.

Title: Evaluation of USGS Southwest Biological Science Center Biennial Conferences.

Type of Request: New.

Affected Public: Individuals, State agencies and tribal governments.

Respondent Obligation: Voluntary.

Frequency of Collection: Biannually.

Estimated Number and Description of Respondents: 550 conference attendees.

Estimated Number of Annual Responses: 1100.

Estimated Time per Response: 15 minutes.

Estimated Total Annual Burden Hours: 275 hours.

III. Request for Comments

We invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. We will include or summarize each comment in our request to OMB to approve this ICR. Before including your address, phone number, e-mail address or other personal identifying information in your comment, you should be aware that your entire comment including your personal identifying information, may be made publically available at anytime. While you can ask us in your comment to withhold your personal identifying information from public review, we cannot guarantee that we will be able to do so.

USGS Information Collection Clearance Officer: Phadrea D. Ponds 970-226-9445.

Dated: April 1, 2009.
Charles van Riper,
Leader, USGS Southwest Biological Science Center, Sonoran Desert Research Station.

[FR Doc. E9-7930 Filed 4-7-09; 8:45 am]

BILLING CODE 4311-AM-P